DEPARTMENT OF THE INTERIOR

Bureau of Land Management

[LLAK930000.L13100000.EI0000.241A]

Call For Nominations and Comments for the 2015 National Petroleum Reserve in Alaska Oil and Gas Lease Sale

AGENCY: Bureau of Land Management, Interior.

ACTION: Notice.

SUMMARY: The Bureau of Land Management (BLM) Alaska State Office is issuing a call for nominations and comments on tracts for the upcoming 2015 National Petroleum Reserve in Alaska (NPR-A) Oil and Gas Lease Sale. A map of the NPR-A showing areas available for leasing is online at http://www.blm.gov/ak.

DATES: BLM Alaska must receive all nominations and comments on these tracts for consideration on or before June 29, 2015.

ADDRESSES: Mail nominations and/or comments to: State Director, Bureau of Land Management, Alaska State Office, 222 West 7th Ave., Mailstop 13; Anchorage, AK 99513-7504. Before including your address, phone number, email address, or other personal identifying information in your nominations and/or comment, you should be aware that your entire comment—including your personal identifying information—may be made publicly available at any time. While you can ask us in your comment to withhold your personal identifying information from public review, we cannot guarantee that we will be able to do so.

FOR FURTHER INFORMATION CONTACT: Wayne Svejnoha, BLM Alaska Energy and Minerals Branch Chief, 907-271-4407. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM is issuing a call for nominations and comments on tracts for the upcoming 2015 NPR-A Oil and Gas Lease Sale, pursuant to 43 CFR 3131.2. When describing tracts nominated for leasing or providing comments, please use the NPR-A maps, legal descriptions of the tracts, and additional information available through the BLM Alaska Web site at http://www.blm.gov/ak. The BLM also requests comments on tracts which should receive special consideration or analysis.

Bud C. Cribley,
State Director.

[FR Doc. 2015-12896 Filed 5-27-15; 8:45 am]

BILLING CODE 4310-JA-P